EXPORT-IMPORT BANK

[Public Notice 2013-0101]

Agency Information Collection Activities; Comment Request

AGENCY: Export-Import Bank of the United States.

ACTION: Submission for OMB review and comments request.

Form Title: EIB 12-01 Medium-Term Master Guarantee Agreement Disbursement Approval Request.

SUMMARY: The Export-Import Bank of the United States (Ex-Im Bank), as a part of its continuing effort to reduce paperwork and respondent burden, invites the general public and other Federal Agencies to comment on the proposed information collection, as required by the Paperwork Reduction Act of 1995.

Ex-Im Bank has developed an electronic disbursement approval processing system for guaranteed lenders with transactions documented under Medium-term Master Guarantee Agreements. After an export transaction has been authorized by Ex-Im Bank and legal documentation has been completed, the lender will obtain and review the required disbursement documents (e.g. invoices, bills of lading, Exporter's Certificates, etc.) and will disburse the proceeds of the loan for eligible goods and services. In order to obtain approval of the disbursement, the lender will access and complete an electronic questionnaire through Ex-Im Bank's automatic application system (ExIm Online). Ex-Im Bank's action (approved or declined) will be posted on the lender's history page.

The information collected will assist in determining that each disbursement under a Medium-Term Guarantee meets all of the terms and conditions for approval.

The application can be reviewed at: www.exim.gov/pub/pending/eib12-01 MT MGA Disbursement Approval Request.

DATES: Comments should be received on or before May 17, 2013 to be assured of consideration.

ADDRESSES: Comments may be submitted electronically on WWW.REGULATIONS.GOV (EIB-2013-0011) or by mail to Office of Information and Regulatory Affairs, 725 17th Street NW., Washington, DC 20038 Attn: OMB 3048-EIB12-01.

SUPPLEMENTARY INFORMATION:

Titles and Form Number: EIB 12-01 Medium-Term Master Guarantee Agreement Disbursement Approval Request.

OMB Number: 3048-XXXX.

Type of Review: New.

Need and Use: The information requested enables the applicant to provide Ex-Im Bank with the information necessary to obtain legislatively required assurance of repayment and fulfills other statutory requirements.

The number of respondents: 150.

Time To Complete: 30 minutes.

The frequency of response: Annual.

Total number of responses received: 150.

Annual hour burden: 75 Hours.

Reviewing time per hour: 15 minutes.

Responses per year: 150.

Reviewing time per year: 37.5 hours.

Average Wages per hour: $30.25.

Average cost per year: $1,134 (time * wages).

Benefits and overhead: 20%.

Total Government Cost: $1,361.

Sharon A. Whitt,
Agency Clearance Officer.

[FR Doc. 2013-08980 Filed 4-16-13; 8:45 am]

BILLING CODE 6690-01-P